CORPORATION FOR NATIONAL AND COMMUNITY SERVICE

Information Collection; Submission for OMB Review; Comment Request

AGENCY: Corporation for National and Community Service.

ACTION: Notice.

SUMMARY: The Corporation for National and Community Service (hereinafter the “Corporation”) has submitted a public information collection request (ICR) to the Office of Management and Budget (OMB) for review and approval in accordance with the Paperwork Reduction Act of 1995, Public Law 104-13, (44 U.S.C. Chapter 35). Copies of this ICR, with applicable supporting documentation, may be obtained by calling the Corporation for National and Community Service, Ms. Angela Roberts, at (202) 606-6822, (aroberts@cns.gov); (TTY/TDD) at (202) 606-5256 between the hours of 9 a.m. and 4 p.m. eastern time, Monday through Friday.

DATES: Written comments must be submitted to the individual and office listed in the ADDRESSES section by December 5, 2005.

ADDRESSES: Comments may be submitted, identified by the title of the information collection activity, by either of the following two methods:

(1) By fax to: (202) 395-6974, Attention: Ms. Katherine Astrich, OMB Desk Officer for the Corporation for National and Community Service; and

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the Corporation's estimate of the burden of the proposed collection of information, including the validity of the methodology and assumptions used;

• Propose ways to enhance the quality, utility and clarity of the information to be collected; and

• Propose ways to minimize the burden of the collection of information on those who are to respond, including the use of appropriate automated, electronic, mechanical, or other technological collection techniques or other forms of information technology, e.g., permitting electronic submissions of responses.

Type of Review: Extension of a currently approved collection.

Agency: Corporation for National and Community Service.

Title: Senior Corps “Join Senior Service Now” Senior Corps web-based recruitment system.

OMB Number: 3045-0078.

Agency Number: None.

Affected Public: (1) Prospective volunteers age 55 and over and (2) organizations electing to post opportunities for volunteers age 55 and over on the system.

Total Respondents: 452,526: 152,526 registered users and 300,000 unregistered users.

Frequency: Annual.

Average Time Per Respondent: 7 minutes for individuals.

25 minutes for organizations posting opportunities.

Estimated Total Burden Hours: 30,000.

Total Burden Cost (capital/startup): None.

Total Burden Cost (operating/maintenance): $0.

Description: The Corporation requests approval with no changes to its existing Web-based recruitment system known as “JASON.”

Comments: A 60-day public comment Notice, regarding modification of the Senior Corps Web-based recruitment system was published in the Federal Register on June 28, 2005. A total of 28 written responses were received. All of the written responses were submitted by Senior Corps project directors. Each written response contained numerous separate comments or statements.

(a) Twenty comments were received about the overall effectiveness of recruiting volunteers ages 55 and over using the JASON system. Nine indicated that the system is not effective at all; with five also commenting that low-income seniors are not computer literate, and six indicated that the JASON system is effective for recruiting current seniors as well as volunteers too young for the Senior Corps programs. The Corporation believes that these comments reflect the demographic shift underway in our society. In contrast to individuals age 65 and over, mid to late Baby Boomers and younger Americans are generally indistinguishable in their use of computers. The Corporation projects that the JASON system is an investment that will pay off in the near future, as more computer savvy individuals become eligible for Senior Corps.

(b) Nine comments were received about the user-friendliness of the JASON system. Six indicated that the system is easy to use; and three indicated that using online forms can be confusing. The Corporation will more prominently post the “step-by-step” guides for users on the site.

(c) Eight comments focused on the Federal cost of the system. Five comments indicated that the system is too expensive for the return on investment, and recommended that JASON be discontinued. Two stated that the cost should be lowered. One comment said that JASON is already cost effective. The Corporation agrees that the JASON cost going forward will be reduced to approximately ⅓ of the original cost per year. This reduction is due to the inapplicability of start-up costs going forward.

(d) Three comments said that the time demands of JASON are too burdensome for the benefits received. The Corporation believes that the burden is appropriate.

(e) A total of 11 general comments were received that were beyond the scope of this information collection. Comments included four instances where seniors who expressed interest in volunteering did not, in turn, answer the telephone calls or e-mails from project staff seeking more information. Two comments contained pleas to provide more Federal funds to grantees for local recruitment campaigns. Three were general comments about dependence on computers in general.

Dated: October 24, 2005.
Tess Scannell,
Director, Senior Corps.

[FR Doc. 05-21955 Filed 11-2-05; 8:45 am]

BILLING CODE 6050-$$-P